DEPARTMENT OF LABOR

Mine Safety and Health Administration

Petitions for Modification of Application of Existing Mandatory Safety Standard

AGENCY: Mine Safety and Health Administration, Labor.

ACTION: Notice.

SUMMARY: This notice is a summary of petitions for modification submitted to the Mine Safety and Health Administration (MSHA) by the parties listed below.

DATES: All comments on the petition must be received by MSHA's Office of Standards, Regulations, and Variances on or before September 6, 2019.

ADDRESSES: You may submit your comments, identified by “docket number” on the subject line, by any of the following methods:

1. Email: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect a copy of the petition and comments during normal business hours at the address listed above.

MSHA will consider only comments postmarked by the U.S. Postal Service or proof of delivery from another delivery service such as UPS or Federal Express on or before the deadline for comments.

FOR FURTHER INFORMATION CONTACT: Roslyn Fontaine, Deputy Director, Office of Standards, Regulations, and Variances at 202-693-9475 (voice), Fontaine.Roslyn@dol.gov (email), or 202-693-9441 (fax). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor (Secretary) determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2019-002-M.

Petitioner: Graymont (PA) Inc., 375 Graymont Road, Bellefonte, Pennsylvania 16823.

Mine: Graymont (PA) Inc. Pleasant Gap, MSHA I.D. 36-06468, located in Centre County, Pennsylvania.

Regulation Affected: 30 CFR 57.14105 (Procedures during repairs or maintenance).

Modification Request: The petitioner requests a modification of the existing standard to permit an alternative method of compliance during its automated and robotic bagging operations. The petitioner proposes a Category Three PLC Interlock energy-control method (PLC Interlock) as a means of compliance with existing energy-control and lockout/tagout methods.

The petitioner states that:

(1) The petitioner uses automated and robotic bagging systems at the mine. The bagging systems are equipped with area guarding that includes a PLC Interlock.

(2) With the automated and robotic bagging systems, miners need to perform routine operational tasks such as: Removing broken bags from the hydrate spout, emptying bag falls on the discharge conveyor, fixing pallet alignment on the pallet infeed, adjusting slip sheets on the pallet, replacing empty or torn bags on the robot, removing film from the stretch hood machine, removing overweight bags from the open mouth packer, removing bags at the flattener if reset is tripped, and cleaning sensors in order to ensure good operating function of the equipment. These tasks are routine, low risk, very limited in duration, and performed by miners trained on the equipment.

(3) To perform such tasks, miners are required to open the door and enter the area beyond the physical guarding (Operating Area), necessitating energy control procedures.

(4) Isolating power from the control computers upwards of 15-20 times per shift to perform routine non-maintenance tasks will cause computer and mechanical failures that would result in increased non-routine maintenance tasks that pose greater risk to miners. Only control power shutdowns will uphold the level of safety inherent in complete source power shutdown and will further maintain the lifespan and integrity of the equipment. This would have the effect of reducing required maintenance and making the equipment safer, which enhances miner safety.

(5) The PLC Interlock method does not cut full source power to the area and equipment surrounding the Operating Area. The equipment adjacent to the Operating Area does have electricity flow, with power cables still carrying power to the system as a whole, even though control power to the Operating Area where the miners work is cut off.

The petitioner proposes the following terms and conditions:

(a) To control energy related to this system, once a worker enters the Operating Area, the PLC Interlock system would engage and the electronic Category Three interlocks within the door completely cut control power to the area in order to ensure there would not be any unexpected reenergization or movement of the equipment being accessed.

(b) The PLC Interlock method also includes lockable mechanisms on all applicable doors whereby a miner can lock the interlock with a traditional lockout/tagout padlock, such that the lock(s) can only be removed by the miner who installed them or by other authorized personnel.

(c) Suitable notices are posted at the power switch and signed by the miner assigned the tasks.

(d) Only upon completion of the tasks, the miner would remove the lock, unlock the gate, close the gate, leave the Operating Area, walk to the control panel, reset the system, and restart operation by reenergizing the control system while ensuring no miners are exposed to an unexpected release of energy or any associated potential hazards. PLC Interlock devices are designed so that the safety-related parts of the control system do not have a single fault that could lead to loss of safety function. The PLC Interlock devices are designed with redundancy to ensure that a failure within the device will not allow operation of the machine. Additionally, miners are not exposed to any live electrical conductors when they work beyond the guarding.

(e) Component failures are protected via redundant and fail-safe design, and the computer program is not controlling the system when the interlocks are not met. Program errors, power surges, or magnetic field interference could not cause the equipment to operate because every time an operator stops the system, the computer program must be reset and re-started.

The petitioner asserts that the proposed alternative method will provide no less than the same measure of protection afforded the miners under the existing standard.

Docket Number: M-2019-003-M.

Petitioner: Graymont (PA) Inc., 375 Graymont Road, Bellefonte, Pennsylvania 16823.

Mine: Graymont (PA) Inc. Pleasant Gap, MSHA I.D. 36-06468, located in Centre County, Pennsylvania.

Regulation Affected: 30 CFR 57.12016 (Work on electrically-powered equipment).

Modification Request: The petitioner requests a modification of the existing standard to permit an alternative method of compliance during its automated and robotic bagging operations. The petitioner proposes a Category Three PLC Interlock energy-control method (PLC Interlock) as a means of compliance with existing energy-control and lockout/tagout methods.

The petitioner states that:

(1) The petitioner uses automated and robotic bagging systems at the mine. The bagging systems are equipped with area guarding that includes a PLC Interlock.

(2) With the automated and robotic bagging systems, miners need to perform routine operational tasks such as: Removing broken bags from the hydrate spout, emptying bag falls on the discharge conveyor, fixing pallet alignment on the pallet infeed, adjusting slip sheets on the pallet, replacing empty or torn bags on the robot, removing film from the stretch hood machine, removing overweight bags from the open mouth packer, removing bags at the flattener if reset is tripped, and cleaning sensors in order to ensure good operating function of the equipment. These tasks are routine, low risk, very limited in duration, and performed by miners trained on the equipment.

(3) To perform such tasks, miners are required to open the door and enter the area beyond the physical guarding (Operating Area), necessitating energy control procedures.

(4) Isolating power from the control computers upwards of 15-20 times per shift to perform routine non-maintenance tasks will cause computer and mechanical failures that would result in increased non-routine maintenance tasks that pose greater risk to miners. Only control power shutdowns will uphold the level of safety inherent in complete source power shutdown and will further maintain the lifespan and integrity of the equipment. This would have the effect of reducing required maintenance and making the equipment safer, which enhances miner safety.

(5) The PLC Interlock method does not cut full source power to the area and equipment surrounding the Operating Area. The equipment adjacent to the Operating Area does have electricity flow, with power cables still carrying power to the system as a whole, even though control power to the Operating Area where the miners work is cut off.

The petitioner proposes the following terms and conditions:

(a) To control energy related to this system, once a worker enters the Operating Area, the PLC Interlock system would engage and the electronic Category Three interlocks within the door completely cut control power to the area in order to ensure there would not be any unexpected reenergization or movement of the equipment being accessed.

(b) The PLC Interlock method also includes lockable mechanisms on all applicable doors whereby a miner can lock the interlock with a traditional lockout/tagout padlock, such that the lock(s) can only be removed by the miner who installed them or by other authorized personnel.

(c) Suitable notices are posted at the power switch and signed by the miner assigned the tasks.

(d) Only upon completion of the tasks, the miner would remove the lock, unlock the gate, close the gate, leave the Operating Area, walk to the control panel, reset the system, and restart operation by reenergizing the control system while ensuring no miners are exposed to an unexpected release of energy or any associated potential hazards. PLC Interlock devices are designed so that the safety-related parts of the control system do not have a single fault that could lead to loss of safety function. The PLC Interlock devices are designed with redundancy to ensure that a failure within the device will not allow operation of the machine. Additionally, miners are not exposed to any live electrical conductors when they work beyond the guarding.

(e) Component failures are protected via redundant and fail-safe design, and the computer program is not controlling the system when the interlocks are not met. Program errors, power surges, or magnetic field interference could not cause the equipment to operate because every time an operator stops the system, the computer program must be reset and re-started.

The petitioner asserts that the proposed alternative method will provide no less than the same measure of protection afforded the miners under the existing standard.

Docket Number: M-2019-004-M.

Petitioner: Solvay Chemicals, Inc., P.O. Box 1167, 400 County Road 85, Green River, WY 82935.

Mine: Solvay Chemicals, Inc. Mine, MSHA I.D. 48-01295, located in Sweetwater County, WY.

Regulation Affected: 30 CFR 57.22305 (Approved equipment (III mines)).

Modification Request: The petitioner requests a modification of the existing standard to permit an alternative method of compliance for the respiratory protection of miners. The petitioner proposes to use non-MSHA approved, intrinsically safe battery-powered air purifying respirators (PAPR) to protect miners from potential exposure to respirable dust and ammonia gas during normal mining conditions in or in by the last open crosscut and where methane may be present.

The petitioner states that:

(1) The operator may use the following battery-powered PAPR units to provide respiratory protection for personnel, subject to the conditions of this petition:

—Sundström SR 500 EX

—Drager X-plore 8000

—3M TR-800 Versaflo

The petitioner proposes the following terms and conditions:

(a) The batteries for the PAPRs will be charged outby the last open crosscut when not in operation.

(b) Affected miners will be trained in the proper use and care of the PAPR units in accordance with manufacturers' instructions.

(c) If methane is detected in concentrations of 1.0 percent or more, procedures in accordance with 30 CFR 57.22234 will be followed.

The petitioner asserts that the proposed alternative method will provide no less than the same measure of protection afforded the miners under the existing standard.

Docket Number: M-2019-05-M.

Petitioner: Nevada Gold Mines, LLC, 1655 Mountain City Highway, Elko, Nevada 89801.

Mine: Genesis Mine, MSHA I.D. 26-00062, 26 Miles on SR766, North of Carlin, Carlin, Nevada 89822, located in Eureka County, Nevada.

South Area Mine, MSHA I.D. 26-00500, 6 Miles on SR766, North of Carlin, Carlin, Nevada, located in Eureka County, Nevada.

Regulation Affected: 30 CFR 56.6309(b) (Fuel oil requirements for ANFO).

Modification Request: The petitioner requests a modification of the existing standard to allow the use of recycled used waste oil blended with diesel fuel (blended oil) to prepare ammonium nitrate fuel oil (ANFO).

The petitioner states that:

(1) On July 1, 2019, petitioner assumed the operation of multiple gold mines in Nevada, including Goldstrike Mine, Genesis Mine and South Area Mine.

(2) Blended oil has been approved for use to prepare ANFO at petitioner's Goldstrike Mine, pursuant to MSHA's Amended Decision and Order of December 1, 1998, reinstated by Decision and Order of November 4, 2011, granting modification of the application of 30 CFR 56.6309(b) at Goldstrike Mine (Goldstrike Modification Order). The petitioner states that it seeks only to use the blended oil that has already been recycled and tested at Goldstrike Mine according to the conditions set out in the Goldstrike Modification Order in its ANFO blasting agents, and use the blended oil prepared and approved for use at Goldstrike Mine in ANFO mixtures at petitioner's Genesis Mine and South Area Mine.

(3) The Genesis Mine and South Area Mine are open-pit gold mines that consist of series of sediment hosted Carlin-style gold deposits. The Genesis Mine is adjacent to the Goldstrike Mine. The principle blasting method to be applied at both mines involves the use of ANFO loaded in pre-drilled blast holes, similar to the blasting methods at Goldstrike Mine. The petitioner states that it intends to ignite approximately 1,000 blast holes per month at each mine.

The petitioner proposes the following terms and conditions:

(a) The ANFO blasting agents the petitioner seeks to load in its blast holes at Genesis Mine and South Area Mine will consist of blended oil prepared at Goldstrike Mine according to the conditions set forth in the Goldstrike Modification Order, combined with ammonium nitrate.

(b) The ammonium nitrate to be combined with the blended oil to create ANFO will be stored separate and apart from the blended oil in three 100-ton silos in a locked and secured compound in the same vicinity at Goldstrike Mine. Only authorized blasting personnel will have access to the blended oil and ammonium nitrate storage facilities.

(c) The blended oil and ammonium nitrate will be transported from Goldstrike Mine to the respective blast sties at Genesis Mine and South Area Mine in separate containers and will be combined at each mine only as part of the actual process of loading the blast holes. The same certified blasting personnel operating at Goldstrike Mine will perform blasting operations at Genesis Mine and South Area Mine.

(d) The ANFO will not be used in confined spaces or underground blasting operations. The ANFO will be used only at Genesis Mine and South Area Mine, and not be sold or transported to other mine properties.

(e) The petitioner will maintain a daily “load” and “shot” report detailing all holes loaded and shots fired which contain the ANFO.

(f) Emulsions (heavy ANFO) will not be used with the recycled oil unless the emulsion manufacturer certifies compatibility of the product with the oil.

(g) Misfires/hangfires which are reasonably suspected to have been caused by the blended oil will be reported to the MSHA District Manager in a timely manner.

The petitioner asserts that the proposed alternative method will at all times guarantee no less than the same measure of protection afforded by the existing standard.

Sheila McConnell,
Director, Office of Standards, Regulations, and Variances.

[FR Doc. 2019-16840 Filed 8-6-19; 8:45 am]

BILLING CODE 4520-43-P